ENVIRONMENTAL PROTECTION AGENCY

[OPP-100159; FRL-6597-5]

The Cadmus Group, Inc.; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be tranferred to The Cadmus Group, Inc. in accordance with 40 CFR 2.307(h)(3) and 2.308(i)(2). The Cadmus Group, Inc. has been awarded multiple contracts to perform work for OPP and the Office of Water (OW). Access to this information will enable The Cadmus Group, Inc. to fulfill the obligations of the contract.

DATES: The Cadmus Group, Inc. will be given access to this information on or before July 24, 2000.

FOR FURTHER INFORMATION CONTACT: By mail: Erik R. Johnson, FIFRA Security Officer, Information Resources and Services Division (7502C), Office of Pesticide Programs, Environmental Protection Agency, Ariel Rios Bldg., 1200 Pennsylvania Ave., NW., Washington, DC 20460; telephone number: 703-305-7248; e-mail address: johnson.erik@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Additional Information, Including Copies of this Document and Other Related Documents?

You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

II. Contractor Requirements

Under contract number 68-C0-0113 work assignment 009, the contractor will perform the following:

Review the Environmental Fate and Effects Division's (EFED) carbofuran RED chapter; review other pertinent documents; participate in conference calls with the Work Assignment Manager (WAM), the Probabilistic Risk Assessment Implementation Team; develops methods for conducting probabilistic risk assessments; develop data input distributions for probabilistic risk assessments for designated agricultural crops (using methods discussed and agreed upon with the WAM) and provide supporting model development and other technical aspects of risk assessment development including literature searches, data extraction, interpretation and analysis to complete the quantitative risk assessment.

These contracts involve no subcontractors.

The OPP has determined that the contracts described in this document involve work that is being conducted in connection with FIFRA, in that pesticide chemicals will be the subject of certain evaluations to be made under the contracts. These evaluations may be used in subsequent regulatory decisions under FIFRA.

Some of this information may be entitled to confidential treatment. The information has been submitted to EPA under sections 3, 4, 6, and 7 of FIFRA and under sections 408 and 409 of FFDCA.

In accordance with the requirements of 40 CFR 2.307(h)(3), the contracts with The Cadmus Group, Inc., prohibits use of the information for any purpose not specified in these contracts; prohibits disclosure of the information to a third party without prior written approval from the Agency; and requires that each official and employee of the contractor sign an agreement to protect the information from unauthorized release and to handle it in accordance with the FIFRA Information Security Manual. In addition, The Cadmus Group, Inc. is required to submit for EPA approval a security plan under which any CBI will be secured and protected against unauthorized release or compromise. No information will be provided to The Cadmus Group, Inc. until the requirements in this document have been fully satisfied. Records of information provided to The Cadmus Group, Inc. will be maintained by EPA Project Officers for these contracts. All information supplied to The Cadmus Group, Inc. by EPA for use in connection with these contracts will be returned to EPA when The Cadmus Group, Inc. has completed its work.

List of Subjects

Environmental protection, Business and industry, Government contracts, Government property, Security measures.

Dated: July 6, 2000.
Richard D. Schmitt,
Acting Director, Information Resources and Services Division, Office of Pesticide Programs.

[FR Doc. 00-18152 Filed 7-18-00; 8:45 am]

BILLING CODE 6560-50-F